COMMITTEE FOR PURCHASE FROM PEOPLE WHO ARE BLIND OR SEVERELY DISABLED

Procurement List Proposed Additions and Deletions

AGENCY: Committee for Purchase From People Who Are Blind or Severely Disabled.

ACTION: Proposed additions to and deletions from Procurement List.

SUMMARY: The Committee is proposing to add to the Procurement List services to be furnished by nonprofit agencies employing persons who are blind or have other severe disabilities, and to delete products previously furnished by such agencies.

Comments Must be Received on or Before: 11/23/2009.

ADDRESSES: Committee for Purchase From People Who Are Blind or Severely Disabled, Jefferson Plaza 2, Suite 10800, 1421 Jefferson Davis Highway, Arlington, Virginia 22202-3259.

FOR FURTHER INFORMATION OR TO SUBMIT COMMENTS CONTACT: Patricia Briscoe, Telephone: (703) 603-7740, Fax: (703) 603-0655, or email CMTEFedReg@AbilityOne.gov.

SUPPLEMENTARY INFORMATION: This notice is published pursuant to 41 U.S.C 47(a) (2) and 41 CFR 51-2.3. Its purpose is to provide interested persons an opportunity to submit comments on the proposed actions.

Additions

If the Committee approves the proposed additions, the entities of the Federal Government identified in this notice will be required to procure the services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the services to the Government.

2. If approved, the action will result in authorizing small entities to furnish the services to the Government.

3. There are no known regulatory alternatives which would accomplish the objectives of the Javits-Wagner-O'Day Act (41 U.S.C. 46-48c) in connection with the services proposed for addition to the Procurement List.

Comments on this certification are invited. Commenters should identify the statement(s) underlying the certification on which they are providing additional information.

End of Certification

The following services are proposed for addition to the Procurement List for production by the nonprofit agency listed:

Services

Service Type/Locations: Mail Services, 11370 W Theodore Trecker Way, West Allis, WI. 2762 Rand Road, Indianapolis, IN.

NPA: Anthony Wayne Rehabilitation Ctr for Handicapped and Blind, Inc., Fort Wayne, IN.

Contracting Activity: Defense Finance And Accounting Service (DFAS), CONTRACT Services Directorate, Columbus, OH.

Deletions

Regulatory Flexibility Act Certification

I certify that the following action will not have a significant impact on a substantial number of small entities. The major factors considered for this certification were:

1. If approved, the action will not result in additional reporting, recordkeeping or other compliance requirements for small entities.

2. If approved, the action may result in authorizing small entities to furnish the products to the Government.

3. There are no known regulatory alternatives which would accomplish the objectives of the Javits-Wagner-O'Day Act (41 U.S.C. 46-48c) in connection with the products proposed for deletion from the Procurement List.

End of Certification

The following products are proposed for deletion from the Procurement List:

Products

Business Cards

NSN: P.S. NIB 49

NSN: P.S. NIB 50

NSN: P.S. NIB 51

NPA: The Lighthouse for the Blind, Inc. (Seattle Lighthouse), Seattle, WA.

Contracting Activity: U.S. Postal Service, Washington, DC.

NSN: 7045-01-483-7450—Disk File 40, 3½″ Disks

NSN: 7045-01-483-7841—Visionguard Anti-Glare Screen

NSN: 7045-01-483-7842—MixMedia Tower

NSN: 7045-01-483-9271—CD Jewel Case, Gold Tray, Five Pack

NSN: 7045-01-483-9272—CD Jewel Case, Gold Tray, Ten Pack

NSN: 7045-01-483-9273—CD Radial Cleaner

NSN: 7045-01-483-9274—CD-ROM Drive Clean

NSN: 7045-01-483-9275—CD Fast Wipes 20

NSN: 7045-01-483-9276—CD-ROM Drive Clean

NSN: 7045-01-483-9277—CD Scratch Repair System

NSN: 7045-01-483-9407—CD Jewel Case, Standard, Three Pack

NPA: Wiscraft Inc.—Wisconsin Enterprises for the Blind, Milwaukee, WI.

Contracting Activity: GSA/FSS OFC SUP CTR—Paper Products, New York, NY.

NSN: 7510-00-455-7339—Fastener, Paper

NPA: Delaware County Chapter, NYSARC, Inc., Walton, NY.

Contracting Activity: GSA/FSS OFC SUP CTR—Paper Products, New York, NY.

NSN: 7510-00-455-7339—Fastener, Paper.

NPA: Delaware County Chapter, NYSARC, Inc., Walton, NY.

Contracting Activity: GSA/FSS OFC SUP CTR—Paper Products, New York, NY.

Patricia Briscoe,
Deputy Director, Business Operations, Pricing and Information Management.

[FR Doc. E9-25481 Filed 10-22-09; 8:45 am]

BILLING CODE 6353-01-P